NUCLEAR REGULATORY COMMISSION

[Docket Nos. 50-254 and 50-265; NRC-2009-0309]

Exelon Generation Company, LLC; Notice of Withdrawal of Application for Amendment to Facility Operating License

The U.S. Nuclear Regulatory Commission (the Commission) has granted the request of Exelon Generation Company, LLC (the licensee) to withdraw its December 21, 2007, application for proposed amendment to Renewed Facility Operating License Nos. DPR-29 and DPR-30 for the Quad Cities Nuclear Power Station, Units 1 and 2, located in Rock Island County, Illinois.

The proposed amendment would have revised the Technical Specifications Surveillance Requirements to establish an acceptance criterion to verify that total battery connector resistances for the 125 and 250 volt direct current batteries are within pre-established limits that ensure the batteries can perform their design function.

The Commission had previously issued a Notice of Consideration of Issuance of Amendment published in the Federal Register on February 26, 2008 (73 FR 10298) and December 30, 2008 (73 FR 79932). However, by letter dated June 25, 2009, the licensee withdrew the proposed change.

For further details with respect to this action, see the application for amendment dated December 21, 2007, and the licensee's letter dated June 25, 2009, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 7th day of July 2009.
For the Nuclear Regulatory Commission.
Christopher Gratton,
Senior Project Manager, Plant Licensing Branch III-2, Division of Operating Reactor Licensing, Office of Nuclear Reactor Regulation.

[FR Doc. E9-16491 Filed 7-10-09; 8:45 am]

BILLING CODE 7590-01-P